ENVIRONMENTAL PROTECTION AGENCY

[Petition IV-2003-4; FRL-7825-9]

Clean Air Act Operating Permit Program; Petition for Objection To State Operating Permit for Tennessee Valley Authority—Gallatin Power Plant; Gallatin (Sumner County), Tennessee and Johnsonville Power Plant; New Johnsonville (Humphreys County), TN

AGENCY: Environmental Protection Agency (EPA).

ACTION: Notice of final order on petition to object to a state operating permit.

SUMMARY: Pursuant to Clean Air Act section 505(b)(2) and 40 CFR 70.8(d), the EPA Administrator signed an order, dated July 29, 2004, partially granting and partially denying a petition to object to a state operating permit issued by the Tennessee Department of Environment and Conservation (TDEC) to the Tennessee Valley Authority (TVA), for its Gallatin Power Plant located in Gallatin, Sumner County,Tennessee and its Johnsonville Power Plant located in New Johnsonville, Humphreys County, Tennessee. Pursuant to section 505(b)(2) of the Clean Air Act (CAA or the Act), judicial review of any denial of the petition may be sought in the United States Court of Appeals for the appropriate circuit within 60 days of this notice under section 307 of the Act. No objection shall be subject to judicial review until final action is taken to issue or deny a permit under CAA section 505(c).

ADDRESSES: Copies of the final order, the petition, and all pertinent information relating thereto are on file at the following location: EPA Region 4, Air, Pesticides and Toxics Management Division, 61 Forsyth Street, SW., Atlanta, Georgia 30303-8960. The final order is also available electronically at the following address: http://www.epa.gov/region07/programs/artd/air/title5/petitiondb/petitions/tva_decision2003.pdf.

FOR FURTHER INFORMATION CONTACT: Daphne Wilson, Air Permits Section, EPA Region 4, at (404) 562-9098 or wilson.daphne@epa.gov.

SUPPLEMENTARY INFORMATION: The Act affords EPA a 45-day period to review and, as appropriate, to object to operating permits proposed by state permitting authorities under title V of the Act, 42 U.S.C. 7661-7661f. Section 505(b)(2) of the Act and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period.

Mr. Reed Zars submitted a petition on behalf of the Sierra Club to the Administrator on April 9, 2003, requesting that EPA object to two state title V operating permits issued by TDEC to TVA. The Petitioner maintains that the TVA Gallatin and Johnsonville permits are inconsistent with the Act because:

(1) Certain permit conditions fail to ensure compliance with applicable opacity limits; (2) the permit conditions improperly shield TVA from its requirement to independently certify compliance; (3) the permit conditions allow TDEC to make changes to the Tennessee State Implementation Plan (SIP) without EPA approval; and (4) the Johnsonville permit contains a less stringent opacity limit than is required by the SIP.

On July 29, 2004, the Administrator issued an order partially granting and partially denying this petition. The order explains the detailed reasons behind EPA's conclusion that the Petitioner adequately demonstrated that the TVA Gallatin and Johnsonville permits are not in compliance with the requirements of the Act. EPA agreed that certain permit conditions fail to ensure compliance with the applicable opacity limit and that these conditions improperly shield TVA from its requirement to independently certify compliance. The petitioner's claim that the Johnsonville permit contains a less stringent opacity limit than is required in the SIP was denied because the limit established in the permit is not less stringent than required by the SIP. As a result of the EPA's objections, TDEC is required to reopen the permit in accordance with 40 CFR 70.7(g)(4) or (g)(5)(i) and (ii).

Dated: September 30, 2004.
Stanley Meiburg,
Acting Regional Administrator, Region 4.

[FR Doc. 04-22589 Filed 10-6-04; 8:45 am]

BILLING CODE 6560-50-P